DEPARTMENT OF TRANSPORTATION

Federal Aviation Administration

Notice of Meetings of the National Parks Overflights Advisory Group Aviation Rulemaking Committee and the Grand Canyon Working Group

ACTION: Notice of meetings.

SUMMARY: The Federal Aviation Administration (FAA) and the National Park Service (NPS), in accordance with the National Parks Air Tour Management Act of 2000, announce the next meeting of the National Parks Overflights Advisory Group (NPOAG) Aviation Rulemaking Committee (ARC). In addition, the FAA and NPS are announcing the next meeting of the Grand Canyon Working Group (GCWG). The GCWG is a self-contained group within the NPOAG. This notification provides the dates, location, and agendas for the meetings.

DATES AND LOCATION: The GCWG meetings will take place on June 12 and June 13, 2007. The NPOAG ARC will meet on June 14 and 15, 2007. The meetings will take place in the Arizona/Barcelona Rooms at the Chaparral Suites Resort, 5001 N. Scottsdale Road, Scottsdale, Arizona 85250, phone number (480) 949-1414. The meetings will begin at 8:30 a.m. each day. Members of either group (NPOAG/GCWG) as well as the public can attend both meetings.

FOR FURTHER INFORMATION CONTACT: For the NPOAG meeting contact Barry Brayer, AWP-1SP, Special Programs, Federal Aviation Administration, Western-Pacific Region Headquarters, P.O. Box 92007, Los Angeles, CA 90009-2007, telephone: (310) 725-3800, e-mail: Barry.Brayer@faa.gov, or Karen Trevino, National Park Service, Natural Sounds Program, 1201 Oakridge Dr., Suite 350, Ft. Collins, CO 80525, telephone: (970) 225-3563, e-mail: Karen_Trevino@nps.gov. For the GCWG meeting contact Lucy Moore, 5 Seton Place, Santa Fe, NM 87505, telephone: (505) 820-2166, e-mail: lucymoore@nets.com.

SUPPLEMENTARY INFORMATION:

Background

The FAA and NPS established the GCWG within the NPOAG to provide advice and recommendations regarding the implementation of the National Parks Overflights Act of 1987 with respect to the Grand Canyon. The GCWG is comprised of 20 members to assure a representative and balanced group of agency, tribal, environmental, recreation, and aviation interests. The Working Group is co-chaired by a representative of the NPS and a representative of the FAA, and is facilitated by Lucy Moore Associates, a third-party neutral contracted through the U.S. Institute for Environmental Conflict Resolution. The Working Group has specific responsibilities for Grand Canyon overflight matters, including but not limited to: Review of the overflights noise analysis; and recommendations for a final overflights plan that provides for the substantial restoration of natural quiet and experience of the Grand Canyon National Park, including routes or corridors for commercial air tour operations that employ quiet aircraft technology.

The National Parks Air Tour Management Act of 2000, enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year as chairman of the advisory group.

The duties of the NPOAG include providing advice, information, and recommendations to the FAA Administrator and the NPS Director on: Implementation of Public Law 106-181; quiet aircraft technology; other measures that might accommodate interests to visitors to national parks; and at the request of the Administrator and the Director, on safety, environmental, and other issues related to commercial air tour operations over national parks or tribal lands.

Agenda for the June 12-13, 2007 Grand Canyon Working Group Meeting

An agenda will be distributed to Working Group members and posted on the FAA Grand Canyon Overflights Web site (http://overflights.faa.gov)

Agenda for the June 14-15, 2007 NPOAG Meeting

The agenda for the meeting will include, but is not limited to, the following: Review and approval of previous meeting minutes; update on ongoing Air Tour Management Program projects; and NPOAG subgroup assignments.

Attendance at the Meetings

Although these are not public meetings, interested persons may attend. Because seating is limited, if you plan to attend please contact one of the persons listed under FOR FURTHER INFORMATION CONTACT so that meeting space may be made to accommodate all attendees.

Record of the Meetings

A meeting summary for the GCWG meeting will be posted under the related documents section of the FAA Grand Canyon Overflights Web site at http://overflights.faa.gov. If you cannot attend the NPOAG meeting, a summary record of the meeting will be made available under the program information section of the FAA ATMP Web site at http://www.atmp.faa.gov or through the Special Programs staff, Western-Pacific Region, Federal Aviation Administration, P.O. Box 92007, Los Angeles, CA 90009-2007, telephone: (310) 725-3800.

Issued in Hawthorne, CA on May 2, 2007.
Barry Brayer,
Manager, Special Programs, Western-Pacific Region.

[FR Doc. 07-2273 Filed 5-8-07; 8:45 am]

BILLING CODE 4910-13-M